DEPARTMENT OF LABOR

Employment and Training Administration

[TA-W-52,879]

Jan-Sew Manufacturing, Crossville, TN; Notice of Termination of Investigation

Pursuant to Section 221 of the Trade Act of 1974, as amended, an investigation was initiated on September 15, 2003 in response to a worker petition filed by a company official on behalf of workers at Jan-Sew Manufacturing, Crossville, Tennessee.

The petitioning worker group is included in a petition filed on September 15, 2003 (TA-W-53,092) that is the subject of an ongoing investigation for which a determination has not yet been issued. Further investigation in this case would therefore serve no purpose and the investigation under this petition has been terminated.

Signed at Washington, DC this 17th day of October 2003.
Richard Church,
Certifying Officer, Division of Trade Adjustment Assistance.

[FR Doc. 03-29272 Filed 11-21-03; 8:45 am]

BILLING CODE 4510-30-P